DEPARTMENT OF COMMERCE

National Oceanic and Atmospheric Administration

[Docket No. 080307398-8399-01]

RIN 0648-ZB87

NOAA Bay Watershed Education and Training (B-WET) Program

AGENCY: Office of Education (OED), Office of the Under Secretary (USEC), National Oceanic and Atmospheric Administration (NOAA), Commerce.

ACTION: Notice of funding availability.

SUMMARY: NOAA Bay Watershed Education and Training (B-WET) is an environmental education program that promotes locally relevant, experiential learning in the K-12 environment. Funded projects provide meaningful watershed educational experiences for students, related professional development for teachers, and helps to support regional education and environmental priorities in the Pacific Northwest, the northern Gulf of Mexico and New England. These new geographic areas are intended to build upon on the successes of the existing B-WET Programs in the Chesapeake Bay, California, and Hawaii.

DATES: Proposals must be received by 5 p.m. on April 16, 2008.

ADDRESSES: Electronic application packages are strongly encouraged and are available at: http://www.grants.gov/. Paper application packages are available on the NOAA Grants Management Web site at: http://www.ago.noaa.gov/grants/appkit.shtml. If the applicant has difficulty accessing Grants.gov or downloading the required forms from the NOAA website, they should contact: For the Pacific Northwest contact, Seaberry Nachbar, NOAA National Marine Sanctuary, 299 Foam Street, Monterey, CA 93940, or by phone at 831-647-4201, or via internet at seaberry.nachbar@noaa.gov; For the northern Gulf of Mexico contact, Stephanie Bennett Pacific Services Center, 737 Bishop Street, Suite 1550, Honolulu, HI 96817, or by phone at 808-522-7481, or via Internet at: stephanie.bennett@noaa.gov; For New England, Shannon Sprague, NOAA Chesapeake Bay Office, 410 Severn Avenue, Suite 107A, Annapolis, MD 21403, or by phone at 410-267-5664, or via internet at shannon.sprague@noaa.gov.

FOR FURTHER INFORMATION CONTACT: For the Pacific Northwest, please contact Seaberry Nachbar, NOAA National Marine Sanctuary, 299 Foam Street, Monterey, CA 93940, or by phone at 831-647-4201, or via internet at seaberry.nachbar@noaa.gov; For the northern Gulf of Mexico, Stephanie Bennett Pacific Services Center, 737 Bishop Street, Suite 1550, Honolulu, HI 96817, or by phone at 808-522-7481, or via internet at stephanie.bennett@noaa.gov; For New England, Shannon Sprague, NOAA Chesapeake Bay Office, 410 Severn Avenue, Suite 107A, Annapolis, MD 21403, or by phone at 410-267-5664, or via internet at shannon.sprague@noaa.gov.

SUPPLEMENTARY INFORMATION: The NOAA Bay Watershed Education and Training (B-WET) Program is an environmental education program that supports experiential learning through local competitive grant awards in specific geographic regions. Currently B-WET Programs are implemented in the Chesapeake Bay, California, and the Hawaiian Islands. In FY08, it is anticipated that funds will be available to expand B-WET programs in up to three additional regions. Proposals are currently being solicited from the Pacific Northwest region, the northern Gulf of Mexico region, and New England region. The regions used above and throughout each section are defined as follows: a. Pacific Northwest—the states of Oregon and Washington; b. Northern Gulf of Mexico—the states of Florida, Alabama, Mississippi, Louisiana, and Texas; c. New England—the states of Maine, New Hampshire, Vermont, Massachusetts, Rhode Island and Connecticut. NOAA recognizes that knowledge and commitment built from firsthand experience, especially in the context of ones community and culture, is essential for achieving environmental stewardship. Carefully selected experiences driven by rigorous academic learning standards, engendering discovery and wonder, and nurturing a sense of community will further connect students with their watershed, help reinforce an ethic of responsible citizenship, and promote academic achievement. Experiential learning techniques, such as those supported by the NOAA B-WET Program, have been shown to increase interest in science, technology, engineering, and math (STEM), thus contributing to NOAA's obligations under the America COMPETES Act (33 U.S.C. 893a(a)).

Electronic Access: The full text of the full funding opportunity announcement for this program can be accessed via the Grants.gov Web site at http://www.grants.gov. The announcement may also be available by contacting the program officials identified under FOR FURTHER INFORMATION CONTACT. Applicants must comply with all requirements contained in the full funding opportunity announcement.

Statutory Authority: Under 33 U.S.C. 893a(a), the Administrator of the National Oceanic and Atmospheric Administration is authorized to conduct, develop, support, promote, and coordinate formal and informal educational activities at all levels to enhance public awareness and understanding of ocean, coastal, Great Lakes, and atmospheric science and stewardship by the general public and other coastal stakeholders, including underrepresented groups in ocean and atmospheric science and policy careers. In conducting those activities, the Administrator shall build upon the educational programs and activities of the agency.

CFDA: 11.469, Congressionally Identified Awards and Projects

Funding Availability: Approximately $2,000,000 is available in FY2008 and approximately $2,000,000 is anticipated for FY 2009 for new awards. The distribution of available funds among the three regions will depend on the number of high-quality proposals received from each region. If an insufficient number of high-quality proposals are received from a particular region (or regions), funds will be distributed among the remaining region(s) from which there are sufficient fundable projects. NOAA anticipates making approximately 5 to 15 new awards during FY 2008 and 5 to 15 new awards during FY 2009. NOAA will only consider projects with duration of 1 to 3 years. The total Federal amount that may be requested from NOAA shall not exceed $100,000 per year and $300,000 for all years of the proposed project. The minimum Federal amount that must be requested from NOAA is $50,000. Applications requesting Federal support from NOAA of less than $50,000 total or more than $100,000 per year and $300,000 total for the duration of the project will not be considered for funding. There is no guarantee that sufficient funds will be available to make awards for all qualified projects. The exact amount of funds that may be awarded will be determined in pre-award negotiations between the applicant and NOAA representatives. Publication of this notice does not oblige NOAA to award any specific project or to obligate any available funds. If applicants incur any costs prior to an award being made, they do so at their own risk of not being reimbursed by the government. Notwithstanding verbal or written assurance that may have been received, there is no obligation on the part of NOAA to cover pre-award costs unless approved by the Grants Officer as part of the terms when the award is made.

Eligibility: Eligible applicants are K-through-12 public and independent schools and school systems, institutions of higher education, community-based and nonprofit organizations, state or local government agencies, interstate agencies, and Indian tribal governments. The Department of Commerce/National Oceanic and Atmospheric Administration (DOC/NOAA) is strongly committed to broadening the participation of historically black colleges and universities, Hispanic serving institutions, tribal colleges and universities, and institutions that service undeserved areas. While applicants do not need to be from the targeted geographical regions specified in the program objectives, they must be working with target audiences in these areas.

Cost Sharing Requirements: No cost sharing is required under this program, however, the NOAA B-WET Program strongly encourages applicants include a 25 percent or higher match. Funds from other Federal awards may not be considered matching funds. The nature of the contribution (cash vs. in-kind) and the amount of matching funds will be taken into consideration during the review process. Priority selection is given to proposals that propose cash rather than in-kind.

Evaluation and Selection Procedures: The general evaluation criteria and selection factors that apply to full applications to this funding opportunity are summarized below. The evaluation criteria for full applications will have different weights and details. Further information about the evaluation criteria and selection factors can be found in the full funding opportunity announcement.

Evaluation Criteria for Projects: 1. Importance and/or relevance and applicability of proposal to the program goals (30 points). This criterion ascertains whether there is intrinsic value in the proposed work and/or relevance to NOAA, federal, regional, state, or local activities. For the NOAA B-WET Program, the following questions are posed to each reviewer: Does the project make a direct connection to the greater marine or estuarine environment? Does the proposal make an intentional connection to the watershed system and how actions within that system can affect the marine and estuarine environment? What is the likelihood that the proposed environmental activities would improve the general understanding of the environment? Does the experience focus around questions, problems, or issues pertaining to specific region? Is the project design project-oriented, hands-on, investigative, and part of a sustained activity? Does the project include pre- and post-activities? Does the project address multiple disciplines?

2. Technical merit (35 points). This criterion assesses whether the approach is technically sound and/or innovative, if the methods are appropriate, and whether there are clear project goals and objectives. For the NOAA B-WET Program the following questions are proposed to each reviewer: Does the proposal clearly outline how the project is an integral part of the instructional program? For Exemplary programs only: Does the project combine Teacher Professional Development with long-term classroom-integrated Meaningful Watershed Educational Experiences for their Students? For student programs only: Is the project aligned with academic learning standards in science and other disciplines? For teacher professional development programs only: Does the teacher receive the needed support to fully participate in the program (i.e., continuing education credit, substitute teachers, stipends, etc.)? Is this support reasonable and necessary? Does the applicant utilize NOAA programs, lesson plans, or a curriculum focused on marine and estuarine issues? Does the applicant use NOAA personnel to enhance their project? Does the applicant demonstrate how their project is aligned and supports the goals and strategies of the NOAA Education Plan? Does the applicant show a knowledge and understanding of the NOAA Education Plan (http://www.oesd.noaa.gov/NOAA_Ed_Plan.pdf)? Are the objectives in the proposal clearly defined and focused? Does the applicant demonstrate that the objectives are realistic and can be reached within the proposed project period? Are the project outcomes measurable and have significant and lasting benefits for teachers and students? Does the evaluation component of the project focus on measuring changes in participants (changes can be in knowledge, attitudes, skills or conservation actions)? Do the changes measured in participants (outcomes) match the project goals and objectives, which include engaging participants in meaningful watershed educational experiences?

3. Overall qualifications of applicants (10 points). This criterion ascertains whether the applicant possesses the necessary education, experience, training, facilities, and administrative resources to accomplish the project. For the NOAA B-WET Program the following questions are posed to each reviewer: Does the applicant show the capability and experience in successfully completing similar projects? Does the proposal include resumes of the Principal Investigators and other staff members? Does the applicant demonstrate knowledge of the target audience? Does the applicant demonstrate knowledge of the Content Standards for their state? Does the applicant document past collaborations with schools or school systems? Does the applicant show the capability and experience in successfully completing similar projects? Are the partners involved in the project qualified?

4. Project costs (20 points). This criterion evaluates the budget to determine if it is realistic and commensurate with the project needs and time frame. For the NOAA B-WET Program the following questions are posed to each reviewer: Does the applicant demonstrate the ability to leverage other resources? Is the nature of the cost share cash or in-kind? Is the budget request reasonable and does the applicant justify the proposed budget request? Is a significant percentage of the budget directly related to bringing students and teachers in contact with the environment? Are requested funds for salaries and fringe benefits only for those personnel who are directly involved in implementing the proposed project and/or are directly related to specific products or outcomes of the proposed project? Does the applicant demonstrate sustainability beyond the project period? Does the applicant demonstrate that the project will continue after NOAA funding has expired?

5. Outreach and education (5 points). This criterion assesses whether the project provides a focused and effective education and outreach strategy regarding NOAA's mission to protect the Nation's natural resources. For the NOAA B-WET Program the following questions are posed to each reviewer: Does the project involve external sharing and communication? Does the target audience share their findings, experiences, or results to their peers or their community?

Review and Selection Process: Upon receipt of a proposal by NOAA, an initial administrative review will be conducted to determine compliance with requirements and completeness of the proposal. All proposals that meet the minimum eligibility requirements will be evaluated and scored by a panel of independent reviewers. Three separate review panels may be held one for each geographical region described in I.B.4 of the Full Funding Opportunity. Reviewers serving on each panel may be Federal or non-Federal experts, each having expertise in areas relevant to the priority under consideration. The reviewers will score each proposal assigned to them using the evaluation criteria and relative weights provided above. The individual reviewers' ratings will be averaged for each application to establish rank order for that priority. No consensus advice will be given by the review panels. Scores from separate panels will not be combined to establish an overall rank order among all geographical regions. The Program Officer will neither vote nor score applications as part of the review panels nor participate in discussion of the merits of any application. The Program Officer will make his/her recommendations for funding based on rank order of each panel and the selection factors listed below to the Selecting Official for final funding decisions.

Selection Factors for Projects: The B-WET Program Managers will review the ranking of the proposals and recommendations of the review panels. The average numerical ranking from the review panel will be the primary consideration in deciding which of the proposals will be recommended for funding to the Selecting Official. The Selecting Official shall award in rank order unless the proposal is justified to be selected out of rank order based upon one or more of the following factors: 1. Availability of funding; 2. Balance/distribution of funds; a. Geographically b. By type of institutions c. By type of partners d. By research areas e. By project types 3. Whether this project duplicates other projects funded or considered for funding by NOAA or other federal agencies; 4. Program priorities and policy factors as set out in section I.B.1-5 and section III.B. of the Full Funding Opportunity; 5. Applicants prior award performance; 6. Partnerships and/or participation of targeted groups; 7. Adequacy of information necessary for NOAA staff to make a NEPA determination and draft necessary documentation before recommendation for funding are made to the Grants Officer. Selected applicants may be asked to modify objectives, project plans or budgets, and provide supplemental information required by the agency prior to the award. When a decision has been made (whether an award or declination), verbatim anonymous copies of reviews and summaries of review panel deliberations, if any, will be made available to the applicant. In anticipation of additional funding, applications declined funding in FY2008 may be retained for up to 1 year for consideration for funding in FY2009.

Intergovernmental Review: Applications under this program are not subject to Executive Order 12372, Intergovernmental Review of Federal Programs.

Limitation of Liability: In no event will NOAA or the Department of Commerce be responsible for proposal preparation costs if these programs fail to receive funding or are cancelled because of other agency priorities. Publication of this announcement does not oblige NOAA to award any specific project or to obligate any available funds.

National Environmental Policy Act (NEPA): NOAA must analyze the potential environmental impacts, as required by the National Environmental Policy Act (NEPA), for applicant projects or proposals which are seeking NOAA federal funding opportunities. Detailed information on NOAA compliance with NEPA can be found at the following NOAA NEPA Web site: http://www.nepa.noaa.gov/, including our NOAA Administrative Order 216-6 for NEPA, http://www.nepa.noaa.gov/NAO216_6_TOC.pdf, and the Council on Environmental Quality implementation regulations, http://ceq.eh.doe.gov/nepa/regs/ceq/toc_ceq.htm. Consequently, as part of an applicant's package, and under their description of their program activities, applicants are required to provide detailed information on the activities to be conducted, locations, sites, species and habitat to be affected, possible construction activities, and any environmental concerns that may exist (e.g., the use and disposal of hazardous or toxic chemicals, introduction of non-indigenous species, impacts to endangered and threatened species, aquaculture projects, and impacts to coral reef systems). In addition to providing specific information that will serve as the basis for any required impact analyses, applicants may also be requested to assist NOAA in drafting of an environmental assessment, if NOAA determines an assessment is required. Applicants will also be required to cooperate with NOAA in identifying feasible measures to reduce or avoid any identified adverse environmental impacts of their proposal. The failure to do so shall be grounds for not selecting an application. In some cases if additional information is required after an application is selected, funds can be withheld by the Grants Officer under a special award condition requiring the recipient to submit additional environmental compliance information sufficient to enable NOAA to make an assessment on any impacts that a project may have on the environment.

The Department of Commerce Pre-Award Notification Requirements for Grants and Cooperative Agreements: The Department of Commerce Pre-Award Notification Requirements for Grants and Cooperative Agreements contained in the Federal Register notice of February 11, 2008 (73 FR 7696), are applicable to this solicitation.

Paperwork Reduction Act: This document contains collection-of-information requirements subject to the Paperwork Reduction Act (PRA). The use of Standard Forms 424, 424A, 424B, and SF-LLL and CD-346 has been approved by the Office of Management and Budget (OMB) under the respective control numbers 0348-0043, 0348-0044, 0348-0040, 0348-0046, and 0605-0001. Notwithstanding any other provision of law, no person is required to, nor shall a person be subject to a penalty for failure to comply with, a collection of information subject to the requirements of the PRA unless that collection of information displays a currently valid OMB control number.

Executive Order 12866: This notice has been determined to be not significant for purposes of Executive Order 12866.

Executive Order 13132 (Federalism): It has been determined that this notice does not contain policies with Federalism implications as that term is defined in Executive Order 13132.

Administrative Procedure Act/Regulatory Flexibility Act: Prior notice and an opportunity for public comment are not required by the Administrative Procedure Act or any other law for rules concerning public property, loans, grants, benefits, and contracts (5 U.S.C. 553(a)(2)). Because notice and opportunity for comment are not required pursuant to 5 U.S.C. 553 or any other law, the analytical requirements for the Regulatory Flexibility Act (5 U.S.C. 601 et seq.) are inapplicable. Therefore, a regulatory flexibility analysis has not been prepared.

Helen Hurcombe,
Director, Acquisition and Grants Office.

[FR Doc. E8-5278 Filed 3-14-08; 8:45 am]

BILLING CODE 3510-22-P